DEPARTMENT OF TRANSPORTATION

Federal Aviation Administration

14 CFR Part 71

[Docket No. FAA-2007-28635; Airspace Docket No. 07-ACE-7]

Establishment of Class D Airspace; Independence, KS

AGENCY: Federal Aviation Administration (FAA), DOT.

ACTION: Final rule.

SUMMARY: This notice amends part 71 of the Federal Aviation Regulations (14 CFR part 71) by establishing a Class D airspace area extending upward from the surface to and including 3,300 feet above sea level within a 4.6-mile radius of Independence Municipal Airport, KS. The establishment of an air traffic control tower has made this action necessary.

DATES: Effective Date: 0901 UTC, December 20, 2007. The Director of the Federal Register approves this incorporation by reference action under title 1, Code of Federal Regulations, part 51, subject to the annual revision of FAA Order 7400.9 and publication of conforming amendments.

FOR FURTHER INFORMATION CONTACT: Grant Nichols, System Support, DOT Regional Headquarters Building, Federal Aviation Administration, 901 Locust, Kansas City, MO 64106; telephone: (816) 329-2522.

SUPPLEMENTARY INFORMATION:

History

On Wednesday, August 15, 2007, the FAA proposed to amend part 71 of the Federal Aviation Regulations (14 CFR part 71) to establish Class D airspace at Independence Municipal Airport, KS (72 FR 45699). The proposal was to establish a Class D airspace area to provide controlled airspace for flight operations due to the establishment of an air traffic control tower. Interested parties were invited to participate in this rulemaking proceeding by submitting written comments on the proposal to the FAA. No comments objecting to the proposal were received.

The Rule

This notice amends part 71 of the Federal Aviation Regulations (14 CFR part 71) by establishing a Class D airspace area extending upward from the surface to an including 3,300 feet above sea level within a 4.6-mile radius of Independence Municipal Airport, KS. The establishment of an air traffic control tower has made this action necessary. The intended effect of this action is to provide controlled airspace for flight operations at Independence Municipal Airport, KS. The area will be depicted on appropriate aeronautical charts.

Class D airspace areas extending upward from the surface of the earth are published in Paragraph 5000 of FAA Order 7400.9R, Airspace Designations and Reporting Points, signed August 15, 2007, and effective September 15, 2007, which is incorporated by reference in 14 CFR 71.1. of the same Order. The Class D airspace designation listed in this document will be published subsequently in the Order.

The FAA has determined that this regulation only involves an established body of technical regulations for which frequently and routine amendments are necessary to keep them operationally current. Therefore, this regulation—(1) is not a “significantly regulatory action” under Executive Order 12866; (2) is not a “significant rule” under DOT Regulatory Policies and Procedures (44 FR 11034; February 26, 1979); and (3) does not warrant preparation of a Regulatory Evaluation as the anticipated impact is to minimal. Since this is a routine matter than will only affect air traffic procedures and air navigation, it is certified that this rule, when promulgated, will not have a significant economic impact on a substantial number of small entities under the criteria of the Regulatory Flexibility Act.

This rulemaking is promulgated under the authority described in Subtitle VII, Part A, Subpart I, Section 40103. Under that section, the FAA is charged with prescribing regulations to assign the use of the airspace necessary to ensure the safety of aircraft and the efficient use of airspace. This regulation is within the scope of that authority since it contains flight operations at Independence Municipal Airport, KS.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTNIG POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, signed August 14, 2007, and effective September 15, 2007, is amended as follows:

Paragraph 5000 Class D Airspace

* * * * *

ACE KS D Independence, KS [New]

Independence Municipal Airport, KS

(Lat. 37°09′30″ N., long. 95°46′42″ W.)

That airspace extending upward from the surface to and including 3,300 feet MSL within a 4.6-mile radius of Independence Municipal Airport. This Class D airspace area is effective during the specific dates and times established in advance by a Notice to Airmen. The effective date and time will thereafter be continuously published in the Airport/Facility Directory.

* * * * *

Issued in Forth, Texas, on October 11, 2007.
Ronnie L. Uhlenhaker,
Team Manager, System Support Group, ATO Central Service Center.

[FR Doc. 07-5422 Filed 11-1-07; 8:45 am]

BILLING CODE 4910-13-M